FEDERAL RESERVE SYSTEM

Change in Bank Control Notices; Acquisitions of Shares of a Bank or Bank Holding Company

The notificants listed below have applied under the Change in Bank Control Act (Act) (12 U.S.C. 1817(j)) and § 225.41 of the Board's Regulation Y (12 CFR 225.41) to acquire shares of a bank or bank holding company. The factors that are considered in acting on the applications are set forth in paragraph 7 of the Act (12 U.S.C. 1817(j)(7)).

The public portions of the applications listed below, as well as other related filings required by the Board, if any, are available for immediate inspection at the Federal Reserve Bank(s) indicated below and at the offices of the Board of Governors. This information may also be obtained on an expedited basis, upon request, by contacting the appropriate Federal Reserve Bank and from the Board's Freedom of Information Office at https://www.federalreserve.gov/foia/request.htm. Interested persons may express their views in writing on the standards enumerated in paragraph 7 of the Act.

Comments regarding each of these applications must be received at the Reserve Bank indicated or the offices of the Board of Governors, Ann E. Misback, Secretary of the Board, 20th Street and Constitution Avenue NW, Washington, DC 20551-0001, not later than December 15, 2021.

A. Federal Reserve Bank of Kansas City (Jeffrey Imgarten, Assistant Vice President) 1 Memorial Drive, Kansas City, Missouri 64198-0001:

1. The Michael J. Klaassen Revocable Trust and Carol S. Klaassen Family Trust, Michael Klaassen, as trustee, all of Wichita, Kansas; to join the Klaassen Family Group, a group acting in concert, to retain voting shares of Chisholm Trail Financial Corporation, and thereby indirectly retain voting shares of Stryv Bank, both of Wichita, Kansas.

Additionally, The Michael J. Klaassen Qualified Subchapter S Trust, Michael Klaassen, as trustee, both of Wichita, Kansas; Linda J. Klaassen Revocable Trust, Linda Klaassen, as trustee, Kourt Klaassen, Derek Ryan Klaassen, and Brent Klaassen, all of Whitewater, Kansas; Trevor J. Klaassen, Oklahoma City, Oklahoma; and Mitchell R. Klaassen, Frisco, Texas; to join the Klaassen Family Group to acquire voting shares of Chisholm Trail Financial Corporation, and thereby indirectly acquire voting shares of Stryv Bank.

Board of Governors of the Federal Reserve System, November 24, 2021.
Michele Taylor Fennell,
Deputy Associate Secretary of the Board.

[FR Doc. 2021-26061 Filed 11-29-21; 8:45 am]

BILLING CODE 6210-01-P